INTERNATIONAL TRADE COMMISSION

[Investigation Nos. 731-TA-825-826 (Third Review)]

Polyester Staple Fiber From Korea and Taiwan

Determinations

On the basis of the record ¹ developed in the subject five-year reviews, the United States International Trade Commission (“Commission”) determines, pursuant to the Tariff Act of 1930 (“the Act”), that revocation of the antidumping duty orders on polyester staple fiber from Korea and Taiwan would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on August 1, 2016 (81 FR 50544) and determined on November 4, 2016 that it would conduct expedited reviews (81 FR 87587, December 5, 2016).

The Commission made these determinations pursuant to section 751(c) of the Act (19 U.S.C. 1675(c)). It completed and filed its determinations in these reviews on January 31, 2017. The views of the Commission are contained in USITC Publication 4668 (January 2017), entitled Polyester Staple Fiber from Korea and Taiwan: Investigation Nos. 731-TA-825-826 (Third Review).

By order of the Commission.
Issued: January 31, 2017.
Katherine M. Hiner,
Acting Supervisory Attorney.

[FR Doc. 2017-02362 Filed 2-3-17; 8:45 am]

BILLING CODE 7020-02-P